DEPARTMENT OF AGRICULTURE

Forest Service

Southwest Montana Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Beaverhead-Deerlodge National Forest's Southwest Montana Resource Advisory Committee will meet on Thursday June 3, 2010, from 9 a.m. until 4 p.m., in Dillon, Montana. The purpose of the meeting is to review funding proposals for Title II funding.

DATES: Thursday, June 3, 2010, from 9 a.m. until 4 p.m.

ADDRESSES: The meeting will be held at the Beaverhead-Deerlodge Forest Headquarters located at 420 Barrett Street, Dillon, Montana (MT 59725).

FOR FURTHER INFORMATION CONTACT: Patty Bates, Committee Coordinator, Beaverhead-Deerlodge National Forest, 420 Barrett Road, Dillon, MT 59725 (406) 683-3979; e-mail pbates@fs.fed.us.

SUPPLEMENTARY INFORMATION: Agenda for this meeting includes discussion about 32 new project proposals seeking funding. Proposals for funding include Basin Creek Road Bridge Replacement, Targeted Weed Grazing, Little Sheep Creek Noxious Weed Control, Stock Lane Corridor Weed Control, Tumbledown Trail Maintenance and Access, Cherry Creek Trail Switchback and Grade Realignments, Yellow Star Thistle and Knapweed, Invasive Species Education and Awareness, Sentinel Creek/Expedition Pass Trout Habitat Restoration and Trail Reconstruction, Antelope Basin Road Gravel, Noxious Weed Aerial Treatment, Tepee Creek Stream Restoration, Birch Creek Resurfacing and Bridge Replacement, Laura Tolman Scott Wildflower Trail, Dry Creek Pipeline and Standpipe Fill Station, Madison District Ground Spraying, Madison District Route Enhancement, Indian Creek Bridge Replacement and Road Maintenance, Hell Roaring Odell Mountain Trail Improvement, North Meadow Creek Noxious Weed Education and Outreach, Narrows Creek Native Fish Spawning, South Arm Whitetail Reservoir Restoration, Shovel Creek Hardened Crossings, Madison Valley Wildlife Planning Model, Blacktail Ridge/Dyce Creek/Clark Canyon Reservoir Weed Treatment, Bloody Dick Cabin Jack Fence, Browne's Lake Toilet, Dillon District Road Drainage Contract, Elk Productivity, Survival and Recruitment Study, Halfway Park Bridge Replacement, Little Sheep Creek Weed Treatment, Maud-S Canyon Trail Reconstruction, Maverick Mountain Hazard Tree Removal, and Southwest Montana Incident Recycling Trailer. The meeting is open to the public. Public input opportunity will be provided and individuals will have the opportunity to address the Committee throughout the meeting.

Dated: May 11, 2010.
David R. Myers,
Designated Federal Official.

[FR Doc. 2010-11839 Filed 5-18-10; 8:45 am]

BILLING CODE 3410-11-M